ENVIRONMENTAL PROTECTION AGENCY

[FRL-11229-01-OAR]

Notice of Transfer of Data Potentially Claimed as Confidential Business Information Under the Clean Air Act to the United States Energy Information Administration

AGENCY: Environmental Protection Agency (EPA).

ACTION: Notice.

SUMMARY: This notice announces that information submitted to the Environmental Protection Agency's Office of Air and Radiation, Office of Transportation and Air Quality, pursuant to the Clean Air Act, including information that may be claimed as Confidential Business Information (CBI) by the submitter, will be transferred to the United States Energy Information Administration (EIA), a Federal agency. EPA is responding to a written request from EIA, seeking information about active, registered biodiesel and renewable diesel fuel producers. Specifically, EIA has requested data for parties who have generated RINs in recent years.

DATES: Access by EIA to this material, including CBI, discussed in this Notice, is ongoing and expected to occur beginning August 7, 2023.

FOR FURTHER INFORMATION CONTACT: Anne-Marie Pastorkovich, Attorney/Advisor, Compliance Division, Office of Transportation and Air Quality; telephone number: 202-343-9623; email address: pastorkovich.anne-marie@epa.gov.

SUPPLEMENTARY INFORMATION: EPA is providing notice of disclosure pursuant to a written request by EIA under 40 CFR 2.209(c). EPA collects various data, including registration and compliance information, to implement the Renewable Fuel Standard (RFS) program and other fuels programs under section 211(o) of the Clean Air Act. This includes collecting information from submitter companies about their facilities, products, and generation and use of renewable identification numbers (RINs). The data may be claimed as CBI by the submitter.

EIA is a Federal agency that “. . . collects, analyzes, and disseminates independent and impartial energy information to promote sound policymaking, efficient markets, and public understanding of energy and its interaction with the economy and the environment.” ¹ EPA is responding to a written request from EIA, seeking information about certain registered biodiesel and renewable diesel fuel producers. Specifically, EIA has requested data about those registrants they consider to be “active,” because they have generated RINs under RFS in recent years. An EIA employee requested this information for analysis and has stated that EIA does not intend to release the data to the public.

¹ See “About EIA,” EIA, at https://www.eia.gov/about/ (accessed June 29, 2023).

Although EPA publishes a public list of parties who are registered under various Clean Air Act fuels programs,² the list does not characterize the RIN activity level of these parties as part of the publicly posted data. Some of the “active” information requested by EIA may be entitled to confidential treatment. Therefore, EPA is publishing this notice to make submitters aware of the request and our intention to release data that may be entitled to confidential treatment to EIA.

² See “Public Data and Registration Lists for Fuels Programs,” EPA, at https://www.epa.gov/fuels-registration-reporting-and-compliance-help/public-data-and-registration-lists-fuel-programs (accessed June 29, 2023).

Byron D. Bunker,
Director, Compliance Division.

[FR Doc. 2023-15962 Filed 7-26-23; 8:45 am]

BILLING CODE 6560-50-P